DEPARTMENT OF HEALTH AND HUMAN SERVICES

Administration for Children and Families

[CFDA Number: 93.595]

Announcement of the Intent To Award a Single-Source Grant to the University of Maryland in College Park, Maryland

AGENCY: Office of Planning, Research, and Evaluation (OPRE), Administration for Children and Families (ACF), Department of Health and Human Services (HHS).

ACTION: Notice of Issuance of a Single-Source award.

SUMMARY: ACF/OPRE announces the intent to award a grant in the amount of $499,514 to the University of Maryland in College Park, Maryland. The purpose of this award is to develop alternative statistical methods for adjusting Temporary Assistance for Needy Families (TANF) caseload data to account for states' programmatic differences and examine the relative effectiveness of state programs.

DATES: The proposed period of performance is January 1, 2021 to December 31, 2023.

FOR FURTHER INFORMATION CONTACT: Girley Wright, Senior Program Analyst, Office of Planning, Research, and Evaluation, 330 C Street SW, Washington, DC 20201. Telephone: 202-401-5070; Email: girley.wright@acf.hhs.gov.

SUPPLEMENTARY INFORMATION: The University of Maryland plans to develop several alternative statistical methods for comparing TANF outcomes across states and complete two reports. The first report will describe the results of applying the selected models to each of the TANF performance measures, the sensitivity of the analyses to assumptions and model specifications, the sufficiency of the existing federal TANF data, and the usefulness of supplemental, state-level TANF data. The second report will describe the grantee efforts to convene cross-state, peer-to-peer performance improvement exchanges, including the results of an evaluation of states' efforts. The results of this award will increase ACF's ability to answer questions about how well TANF helps recipients increase their employment and earnings and move toward self-sufficiency. The Office of Family Assistance in coordination with OPRE would find this analysis informative and useful for ongoing TANF performance management efforts.

Statutory Authority: Social Security Act, Title IV, Section 413(a), 42 U.S.C. § 613(a).

Elizabeth Leo,
Senior Grants Policy Specialist, Office of Grants Policy, Office of Administration.

[FR Doc. 2020-26970 Filed 12-7-20; 8:45 am]

BILLING CODE 8414-09-P